DEPARTMENT OF ENERGY

Federal Energy Regulatory Commission

Notice of Application Ready for Environmental Analysis and Soliciting Comments, Recommendations, Terms and Conditions, and Prescriptions

July 14, 2000.

Take notice that the following hydroelectric application has been filed with the Commission and is available for public inspection:

a. Type of Application: New Major License.

b. Project No.: 2318-002.

c. Date filed: December 13, 1991.

d. Applicant: Erie Boulevard Hydropower, L.P.

e. Name of Project: E.J. West Hydroelectric Project.

f. Location: On the Sacandaga River, 6 miles upstream from its confluence with the Hudson River, in the towns of Hadley, Day, Edinburg, Providence (Saratoga County), Broadalbin, Mayfield, Northampton (Fulton County), and Hope (Hamilton County), New York. The proejct would not utilize federal lands.

g. Filed Pursuant to: Federal Power Act, 16 U.S.C. 791(a)-825(r).

h. Applicant Contact: Mr. Jerry L. Sabattis, Hydro Licensing Coordinator, 225 Greenfield Parkway, Suite 201, Liverpool, New York 13088, (315) 413-2787.

i. FERC Contact: Lee Emery, E-mail address, Lee.Emery@ferc.fed.us, or telephone (202) 219-2779.

j. Deadline for comments recommendations, terms and conditions, and prescriptions: 60 days from the issuance date of this notice.

All documents (original and eight copies) should be filed with: David P. Boergers, Secretary, Federal Energy Regulatory Commission, 888 First Street, NE., Washington, DC 20426.

The Commission's Rules of Practice and Procedure require all intervener filing documents with the Commission to serve a copy of that document on each person whose name appears on the official service list for the project. Further, if an intervener files comments or documents with the Commission relating to the merits of an issue that may affect the responsibilities of a particular resource agency, they must also serve a copy of the document on that resource agency.

k. Status of environmental analysis: This application has been accepted for filing and is ready for environmental analysis at this time.

l. Description of the Project: The existing, operating project consists of: (1) A 1,100-foot-long and 100-foot-high earth fill and concrete dam (Conklingville dam) with an outlet consisting of two spillways and a spillway weir; (2) a reservoir (Great Sacandaga Lake) with a surface area of 25,950-acres, a gross storage capacity of 792,000-acre-feet (ac-ft), and a usable storage capacity of 681,000 ac-ft, at normal maximum surface elevation of 768 feet National Geodetic Vertical Datum; (3) a concrete canal; (4) a log boom to exclude debris and boaters from entering the canal; (5) an intake structure with 4½-inch clear spaced trashracks located directly in front of the gates; (6) four penstocks; (7) a powerhouse with two vertical Francis turbines (10 megawatts each) and two generators; (8) appurtenant equipment and controls; and (9) a control house. There is no bypassed reach. The project has a total installed capacity of 20 megawatts and an annual average energy production of 63,188 megawatt-hours.

The project operates in a limited peaking mode, using water stored in the Great Sacandaga lake. The Hudson River Black River Regulating District determines the amount of water to be released on any given day and Erie determines how that volume will be released over each 24-hour period. Great Sacandaga lake is typically drawn down for a 3 week period in the spring to allow collection of water during high flow events. Outflow from the lake during this 3 week period is restricted. The lake's average annual water fluctuation is 23 feet. Water from the powerhouse is discharged directly into the upper reach of the Stewarts Bridge Project (FERC No. 2047) reservoir.

m. Locations of the application: A copy of the application is available for inspection and reproduction at the Commission's Public Reference Room, located at 888 First Street, NE., Room 2A, Washington, DC 20426, or by calling (202) 208-1371. The application may be viewed on the web at http://www.ferc.fed.us/online/rims.htm (call 202-208-2222 for assistance). A copy is also available for inspection and reproduction at the address in item h. above.

Filing and Service of Responsive Documents—The application is ready for environmental analysis at this time, and the Commission is requesting comments, reply comments, recommendations, terms and conditions, and prescriptions.

The Commission directs, pursuant to Section 4.34(b) of the Regulation (see Order No. 533 issued May 8, 1991, 56 FR 23108, May 20, 1991) that all comments, recommendations, terms and conditions and prescriptions concerning the application be filed with the Commission within 60 days from the issuance date of this notice. All reply comments must be filed with the Commission within 105 days from the date of this notice.

Anyone may obtain an extension of time for these deadlines from the Commission only upon a showing of good cause or extraordinary circumstances in accordance with 18 CFR 385.2008.

All filings must (1) bear in all capital letters the title “COMMENTS,” “REPLY COMMENTS”, “RECOMMENDATIONS,” “TERMS AND CONDITIONS,” or “PRESCRIPTIONS;” (2) (set forth in the heading the name of the applicant and the project number of the application to which the filing responds; (3) furnish the name, address, and telephone number of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. Any of these documents must be filed by providing the original and the number of copies required by the Commission's regulations to: The Secretary, Federal Energy Regulatory Commission, 888 First Street, NE., Washington, DC 20426. An additional copy must be sent to Director, Division of Environmental Engineering Review, Federal Energy Regulatory Commission, at the above address. Each filing must be accompanied by proof of service on all persons listed on the service list prepared by the Commission in this proceeding, in accordance with 18 CFR 4.34(b), and 385.2010.

Linwood A. Watson, Jr.,
Acting Secretary.

[FR Doc. 00-18335 Filed 7-19-00; 8:45 am]

BILLING CODE 6717-01-M